DEPARTMENT OF COMMERCE

International Trade Administration

[C-570-984]

Drawn Stainless Steel Sinks From the People's Republic of China: Rescission of Countervailing Duty Administrative Review; 2014

AGENCY: Enforcement and Compliance, International Trade Administration, Department of Commerce.

SUMMARY: The Department of Commerce (the Department) is rescinding the administrative review of the countervailing duty order on drawn stainless steel sinks (sinks) from the People's Republic of China (PRC) for the period of review (POR) January 1, 2014, through December 31, 2014, based on the timely withdrawal of requests for review.

DATES: Effective Date: August 14, 2015.

FOR FURTHER INFORMATION CONTACT: Lana Nigro, AD/CVD Operations, Office I, Enforcement and Compliance, International Trade Administration, U.S. Department of Commerce, 14th Street and Constitution Avenue NW., Washington, DC 20230; telephone: (202) 482-1779.

SUPPLEMENTARY INFORMATION:

Background

On April 1, 2015, the Department published the notice of opportunity to request an administrative review of the countervailing duty order on sinks from the PRC for the POR January 1, 2014, through December 31, 2014.¹ On April 28, 2015, Guangdong Yingao Utensils Co., Ltd. (Yingao), B&R Industries Limited (B&R), Guangdong New Shichu Import and Export Co., Ltd. (New Shichu), and Guangdong Dongyuan Kitchenware Industrial Co., Ltd. (Dongyuan) requested an administrative review of their POR sales.² On April 29, 2015, Zhongshan Superte Kitchenware Co., Ltd. (Superte) requested an administrative review of its POR sales.³ In accordance with 19 CFR 351.221(c)(1)(i), the Department published a notice initiating an administrative review of Yingao, B&R, New Shichu, Dongyuan, and Superte on May 26, 2015.⁴ Yingao, New Shichu and Dongyuan withdrew their requests for an administrative review on June 24, 2015.⁵ B&R withdrew its request for an administrative review on July 27, 2015.⁶ Superte withdrew its request for administrative review on July 28, 2015.⁷

¹ See Antidumping or Countervailing Duty Order, Finding, or Suspended Investigation; Opportunity to Request Administrative Review, 80 FR 17392 (April 1, 2015).

² See Letter from Yingao, “Drawn Stainless Steel Sinks from the People's Republic of China: Request for Administrative Review” dated April 28, 2015; letter from B&R, “Drawn Stainless Steel Sinks from the People's Republic of China: Request for Countervailing Duty Administrative Review” dated April 28, 2015; letter from New Shichu, “Drawn Stainless Steel Sinks from the People's Republic of China: Request for Administrative Review” dated April 28, 2015; letter from Dongyuan, “Drawn Stainless Steel Sinks from the People's Republic of China: Request for Administrative Review” dated April 28, 2015.

³ See Letter from Superte, “Drawn Stainless Steel Sinks from China; Administrative Review Request” dated April 29, 2015.

⁴ See Initiation of Antidumping and Countervailing Duty Administrative Reviews, 80 FR 30041 (May 26, 2015).

⁵ See Letter from Yingao, “Drawn Stainless Steel Sinks from the People's Republic of China: Withdraw Request for Annual Administrative Review” dated June 24, 2015; letter from New Shichu, “Drawn Stainless Steel Sinks from the People's Republic of China: Withdraw Request for Annual Administrative Review” dated June 24, 2015; letter from Dongyuan, “Drawn Stainless Steel Sinks from the People's Republic of China: Withdraw Request for Annual Administrative Review” dated June 24, 2015.

⁶ See Letter from B&R, “Drawn Stainless Steel Sinks from the People's Republic of China: Withdrawal of Request for Countervailing Duty Administrative Review” dated July 27, 2015.

⁷ See Letter from Superte, “Drawn Stainless Steel Sinks from China: Withdrawal of Administrative Review Request” dated July 28, 2015.

Rescission of Review

Pursuant to 19 CFR 351.213(d)(1), the Department will rescind an administrative review, in whole or in part, if the party or parties that requested a review withdraws the request within 90 days of the publication date of the notice of initiation of the requested review. As noted above, all parties withdrew their requests for review within 90 days of the publication date of the notice of initiation. No other parties requested an administrative review of the order. Therefore, in accordance with 19 CFR 351.213(d)(1), we are rescinding this review in its entirety.

Assessment

The Department will instruct U.S. Customs and Border Protection (CBP) to assess countervailing duties on all appropriate entries of sinks from the PRC. Countervailing duties shall be assessed at rates equal to the cash deposit of estimated countervailing duties required at the time of entry, or withdrawal from warehouse, for consumption in accordance with 19 CFR 351.212(c)(1)(i). The Department intends to issue appropriate assessment instructions to CBP 15 days after the date of publication of this notice of rescission of administrative review.

Notifications

This notice serves as a final reminder to parties subject to administrative protective order (APO) of their responsibility concerning the return or destruction of proprietary information disclosed under an APO in accordance with 19 CFR 351.305(a)(3). Timely written notification of the return or destruction of APO materials, or conversion to judicial protective order, is hereby requested. Failure to comply with the regulations and terms of an APO is a sanctionable violation.

This notice is issued and published in accordance with sections 751(a)(1) and 777(i)(1) of the Tariff Act of 1930, as amended, and 19 CFR 351.213(d)(4).

Dated: August 7, 2015.
Christian Marsh,
Deputy Assistant Secretary for Antidumping and Countervailing Duty Operations.

[FR Doc. 2015-19981 Filed 8-13-15; 8:45 am]

BILLING CODE 3510-DS-P